DEPARTMENT OF AGRICULTURE

Rural Business-Cooperative Service

[Docket Number: RBS-23-BUSINESS-0013]

Notice of Request for Approval of New Information Collection

AGENCY: Rural Business-Cooperative Service, USDA.

ACTION: Notice of request and comments.

SUMMARY: In accordance with the Paperwork Reduction Act of 1995, the Rural Business-Cooperative Service, an agency of the United States Department of Agriculture's (USDA), invites comments on this information collection for which the Agency intends to request approval from the Office of Management and Budget (OMB).

DATES: Comments on this notice must be received by August 7, 2023.

FOR FURTHER INFORMATION CONTACT: Lynn Gilbert, Rural Development Innovation Center—Regulations Management Division, USDA, 1400 Independence Avenue SW, South Building, Washington, DC 20250-1522. Telephone: (202) 690-2682. Email lynn.gilbert@usda.gov.

SUPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the collection of information is necessary for the proper performance of the functions of the agency, including whether the information will have practical utility; (b) the accuracy of the agency's estimate of burden including the validity of the methodology and assumption used; (c) ways to enhance the quality, utility, and clarity of the information to be collected; and (d) ways to minimize the burden of the collection of information on those who are to respond, including through the use of appropriate automated, electronic, mechanical, or other technological collection techniques on other forms and information technology. Comments may be sent as follows:

Federal eRulemaking Portal: Go to https://www.regulations.gov and, in the “Search” box, type in the Docket No. RBS-23-BUSINESS-0013. A link to the Notice will appear. You may submit a comment here by selecting the “Comment” button or you can access the “Docket” tab, select the “Notice,” and go to the “Browse & Comment on Documents” Tab. Here you may view comments that have been submitted as well as submit a comment. To submit a comment, select the “comment” button, complete the required information, and select the “Submit Comment” button at the bottom. Information on using Regulations.gov, including instructions for accessing documents, submitting comments, and viewing the docket after the close of the comment period, is available through the site's “FAQ” link at the bottom. Comments on this information collection must be received by August 7, 2023.

Title: Indigenous Animals and Harvesting Meat Processing Grant Program for Fiscal Year 2023.

OMB Control Number: 0570-NEW.

Expiration Date of Approval: Three years from date of approval.

Type of Request: New information collection.

Abstract: The Indigenous Animals Harvesting and Meat Processing Grant Program was authorized by section 1001 of the American Rescue Plan (ARP) Act of 2021 (Pub. L. 117-2), which assists U.S. states and territories to build resilience in the middle of the supply chain and strengthen local and regional food systems. The Rural Business-Cooperative Service (RBCS) administers this program, an agency within USDA Rural Development, in partnership with the Agricultural Marketing Service (AMS) and in consultation with the Office of Tribal Relations (OTR).

If successfully selected for an Indigenous Animals Grant award, respondents are not expected to spend more than 24 hours completing the information required. Grant applicants are required to submit their information via Grants.gov. Information collected as part of this one-time grant program, outlined in the RFA, includes the grant narrative (application) and standardized Federal forms (for which information is collected through Grants.gov). Once grant recipients are determined, Rural Business Cooperative Service (RBCS) uses the award agreement form as its Notice of Award and Grant Agreement (NOA) as the binding contract with the Federal award recipient. The NOA outlines additional post-award requirements by which award recipients must comply, including Terms and Conditions, Administrative and National Policy Requirements (2 CFR 200.300), performance and financial reporting (AMS requires annual reporting in alignment with 2 CFR 200.329), and final close-out reporting requirements.

The program contain requirements that involve information collection activities, including approved OMB forms in chart below, SAM registration and general certifications, the project RFA, NEPA environmental checklist, organizational documents, Articles of Incorporation, design and construction documents, letters of support, evidence of land ownership, the NICRA, surety, technical services documents, final project and financial state report, project performance reports, inspection reports, and recordkeeping.

Estimate of Burden: Public reporting burden for this collection of information is estimated to average 1.29 hours per response.

Respondents: Indian Tribes.

Estimated Number of Respondents: 50.

Estimated Number of Responses per Respondent: 36.

Estimated Number of Responses: 1801.

Estimated Total Annual Burden Hours on Respondents: 2328.

Form No. | Responses per respondent
SF 424, 424A, 424C, 424D | 1
SF LLL | 1
RD 1940-1 | 1
RD 4280-2 | 1
RD 1942-46 | 1
RD 1924-9 | 1
RD 1942-10 | 1
SF 425 | 1
SF 271 | 1
SF 270 | 1
SF 3881 | 1

Copies of this information collection can be obtained from Lynn Gilbert, Rural Development Innovation Center-Regulatory Team, at (202) 690-2682. Email: lynn.gilbert@usda.gov. All responses to this information collection and recordkeeping notice will be summarized and included in the request for OMB approval. All comments will also become a matter of public record.

Karama Neal,
Administrator, Rural Business Cooperative Service.

[FR Doc. 2023-12136 Filed 6-6-23; 8:45 am]

BILLING CODE 3410-XY-P